DEPARTMENT OF COMMERCE

Bureau of Industry and Security

15 CFR Part 700

[Docket No. 060215037-6037-01]

Defense Priorities and Allocations System (DPAS): Metalworking Machines

AGENCY: Bureau of Industry and Security, U.S. Department of Commerce.

ACTION: Notice of inquiry.

SUMMARY: The Bureau of Industry and Security (BIS) is seeking public comments on the impact of the Defense Priorities and Allocations System (DPAS) set-aside for metalworking machines on industry (15 CFR 700.31). This notice of inquiry is part of an effort to collect information to assist in the preparation of revisions to the DPAS regulation (15 CFR part 700), including the possible elimination of the metalworking machines set-aside.

DATES: Comments must be received by May 17, 2006.

ADDRESSES: You may submit comments by any of the following methods:

• E-mail: DPAS@bis.doc.gov. Include the phrase “Metalworking Machines Notice of Inquiry” in the subject line;

• Fax: (202) 482-5650 (Attn: Michael Vaccaro);

• Mail or Hand Delivery/Courier: Michael Vaccaro, U.S. Department of Commerce, Bureau of Industry and Security, Office of Strategic Industries and Economic Security, 1401 Constitution Avenue, NW., Room 3876, Washington, DC 20230.

FOR FURTHER INFORMATION CONTACT: Liam McMenamin, Office of Strategic Industries and Economic Security, Bureau of Industry and Security, U.S. Department of Commerce, Phone: (202) 482-2233.

SUPPLEMENTARY INFORMATION:

Background

Under Title I of the Defense Production Act of 1950, as amended, (50 U.S.C. App. 2061, et seq.), the President is authorized to require preferential acceptance and performance of contracts or orders supporting certain approved national defense and energy programs, and to allocate materials, services, and facilities in such a manner as to promote these approved programs. Additional priorities authority is found in section 18 of the Selective Service Act of 1948 (50 U.S.C. App. 468), 10 U.S.C. 2538, and 50 U.S.C. 82. DPAS authority has also been extended to support emergency preparedness activities under Title VI of the Robert T. Stafford Disaster Relief Act and Emergency Assistance Act, as amended (45 U.S.C. 5914, et seq.) The President delegated DPAS authority to the Department of Commerce in Executive Order 12919 (June 3, 1994), and it was subsequently redelegated to the Bureau of Industry and Security.

Originally published in 1984, the DPAS regulation was revised on June 11, 1998 (63 FR 31918) to update, streamline, and clarify a number of provisions. Allocations rules like the DPAS (i.e., controlled materials programs) were established in response to previous periods of national security emergency such as the Second World War and the Korean conflict to assure the availability of any scarce and critical item for approved programs. The basic elements of the controlled materials programs were set-asides (the amount of an item for which a producer or supplier must reserve order-book space in anticipation of the receipt of rated orders), production directives (requiring a producer to supply a specific quantity, size, shape, and type of an item within a specific time period), and allotments (the maximum quantity of an item authorized for use in a specific program or application).

Discussion and Request for Comments

Currently, the DPAS regulation includes a set-aside that applies to metalworking machines. Section 700.31 of the DPAS regulation states as follows:

“(c) A metalworking machine producer is not required to accept DO rated orders calling for delivery in any month of a total quantity of any size of machine in excess of 60 percent of scheduled production of that size of machine for that month, or any DO rated orders received less than three months prior to the beginning of the month for which delivery is requested. However, DX rated orders must be accepted without regard to a set-aside or the lead time, if delivery can be made by the required date.”

In pursuit of the DPAS mission, the Department of Commerce endeavors to minimize disruptions to the normal commercial activities of industry. In an effort to streamline the DPAS regulation, BIS is seeking comment on the impact of the DPAS's set-aside for metalworking machines on industry and the effect on industry of the possible elimination of this set-aside.

Submission of Comments

All comments must be submitted to the address indicated in this notice. The Department requires that all comments be submitted in written form.

The Department encourages interested persons who wish to comment to do so at the earliest possible time. The period for submission of comments will close on May 17, 2006. The Department will consider all comments received before the close of the comment period. Comments received after the end of the comment period will be considered, if possible, but their consideration cannot be assured. Anyone submitting business confidential information should clearly identify the business confidential portion of the submission and also provide a non-confidential submission that can be placed in the public record. The Department will seek to protect such information to the extent permitted by law. All comments submitted in response to this notice will be made a matter of public record and will be available for public inspection and copying.

The Office of Administration, Bureau of Industry and Security, U.S. Department of Commerce, displays public comments on the BIS Freedom of Information Act (FOIA) Web site at http://www.bis.doc.gov/foia. This office does not maintain a separate public inspection facility. If you have technical difficulties accessing this Web site, please call BIS's Office of Administration at (202) 482-1900 for assistance.

Dated: April 11, 2006.
Matthew S. Borman,
Deputy Assistant Secretary for Export Administration.

[FR Doc. E6-5649 Filed 4-14-06; 8:45 am]

BILLING CODE 3510-33-P